POSTAL REGULATORY COMMISSION

[Docket No. CP2011-4; Order No. 1901]

New Postal Product

AGENCY: Postal Regulatory Commission.

ACTION: Notice.

SUMMARY: The Commission is noticing a recent Postal Service filing requesting an amendment to Priority Mail Contract 29. This notice informs the public of the filings, invites public comment, and takes other administrative steps.

DATES: Comments are due: December 18, 2013.

ADDRESSES: Submit comments electronically via the Commission's Filing Online system at http://www.prc.gov. Those who cannot submit comments electronically should contact the person identified in the FOR FURTHER INFORMATION CONTACT section by telephone for advice on filing alternatives.

FOR FURTHER INFORMATION CONTACT: Stephen L. Sharfman, General Counsel, at 202-789-6820.

SUPPLEMENTARY INFORMATION:

Table of Contents

I. Information

II. Notice of Filings

III. Ordering Paragraphs

I. Introduction

On December 9, 2013, the Postal Service filed notice that it has agreed to an amendment to the existing Priority Mail Contract 29 subject to this docket.¹ The Postal Service includes one attachment in support of its Notice:

¹ Notice of United States Postal Service of Amendment to Priority Mail Contract 29, With Portions Filed Under Seal, December 9, 2013 (Notice).

• Attachment A—a redacted copy of the amendment to the existing Priority Mail Contract 29.

The Postal Service also filed the unredacted amendment under seal. It asserts that the “supporting financial documentation and financial certification initially provided in this docket remain applicable.” Id. at 1. It also contends that the amendment “will not materially affect the cost coverage” of the product. Id. The Postal Service seeks to incorporate by reference the Application for Non-Public Treatment originally filed in this docket for the protection of customer-identifying information that it has filed under seal. Id.

The amendment makes three changes. First, it changes the duration of the contract from three to five years after the effective date. Id. Attachment A at 2. Second, the amendment allows two 90-day extensions of the contract if the preparation of a successor agreement is active and the Commission is notified within at least seven days of the contract's expiration date. Id. at 3. Finally, it provides pricing for the fourth year of the contract as well as an annual adjustment provision which calculates prices during the fifth year of the contract. Id. at 2.

II. Notice of Filings

Interested persons may submit comments on whether the changes presented in the Postal Service's Notice are consistent with the policies of 39 U.S.C. 3632, 3633, or 3642, 39 CFR 3015.5, and 39 CFR part 3020, subpart B. Comments are due no later than December 18, 2013. The public portions of these filings can be accessed via the Commission's Web site (http://www.prc.gov).

The Commission appoints Kenneth R. Moeller to represent the interests of the general public (Public Representative) in this case.

III. Ordering Paragraphs

It is ordered:

1. The Commission reopens Docket No. CP2011-4 for consideration of matters raised by the Postal Service's Notice.

2. Pursuant to 39 U.S.C. 505, the Commission appoints Kenneth R. Moeller to serve as an officer of the Commission (Public Representative) to represent the interests of the general public in this proceeding.

3. Comments are due no later than December 18, 2013.

4. The Secretary shall arrange for publication of this order in the Federal Register.

By the Commission.
Shoshana M. Grove,
Secretary.

[FR Doc. 2013-29975 Filed 12-16-13; 8:45 am]

BILLING CODE 7710-FW-P